DEPARTMENT OF COMMERCE

National Oceanic and Atmospheric Administration

[Docket No. 080626787-81157-03]

RIN 0648-ZB97

Availability of Grants Funds for Fiscal Year 2009

AGENCY: National Ocean Service (NOS), National Oceanic and Atmospheric Administration (NOAA), Commerce.

ACTION: Notice

SUMMARY: The National Oceanic and Atmospheric Administration, National Ocean Service, publishes this notice on the Modeling the Causes of Hypoxia component of the Northern Gulf of Mexico program to provide clarification regarding funding availability.

DATES: The deadline for the receipt of proposals is 3 p.m. EST, October 20, 2008, for both electronic and paper applications.

ADDRESSES: The address for submitting Proposals electronically is: http://www.grants.gov/. (Electronic submission is strongly encouraged). Paper submissions should be sent to the attention of, Center for Sponsored Coastal Ocean Research (N/SCI2), National Oceanic and Atmospheric Administration, 1305 East-West Highway, SSMC4, 8th Floor Station 8240, Silver Spring, MD 20910.

FOR FURTHER INFORMATION CONTACT: For further information, contact: Libby Jewett, (libby.jewett@noaa.gov, 301-713-3338 x 121).

SUPPLEMENTARY INFORMATION: This program was originally solicited in the Federal Register on July 11, 2008, as part of the July 2008 NOAA Omnibus solicitation. NOAA is publishing this notice to provide clarification regarding funding availability for the Modeling the Causes of Hypoxia component of the Northern Gulf of Mexico program. Please note that funds for Modeling the Causes of Hypoxia component of the Northern Gulf of Mexico Ecosystems and Hypoxia Assessment program will not exceed $1,000,000.00 per project per year. It is anticipated that only one project will be awarded for this program with project durations of 3 to 5 years. All other requirements for this solicitation remain the same.

Award Notices

The notice of award is signed by the NOAA Grants Officer and is the authorizing document. It is provided by postal mail or electronically through the Grants Online system to the appropriate business office of the recipient organization.

Administrative and National Policy Requirements

The Department of Commerce Pre-Award Notification Requirements for Grants and Cooperative Agreements

The Department of Commerce Pre-Award Notification Requirements for Grants and Cooperative Agreements contained in the Federal Register notice of February 11, 2008 (73 FR 7696), are applicable to this solicitation.

Limitation of Liability

In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm). Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems).

In addition to providing specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

In conformance with the Uniform Administrative Requirements for Grants and Cooperative Agreements (15 CFR 14.36), any data collected in projects supported by NCCOS/CSCOR should be delivered to a National Data Center (NDC), such as the National Oceanographic Data Center (NODC), in a format to be determined by the institution, the NDC, and the Program Officer. Information on NOAA NDCs can be found at http://www.nesdis.noaa.gov/datainfo.html. It is the responsibility of the institution for the delivery of these data; the DOC will not provide additional support for delivery beyond the award. Additionally, all biological cultures established, molecular probes developed, genetic sequences identified, mathematical models constructed, or other resulting information products established through support provided by NCCOS/CSCOR are encouraged to be made available to the general research community at no or modest handling charge (to be determined by the institution, Program Officer, and DOC).

Reporting

All performance (i.e. technical progress) reports shall be submitted electronically through the Grants Online system unless the recipient does not have internet access. In that case, performance reports are to be submitted to the NOAA program manager. All financial reports shall be submitted in the same manner.

Agency Contacts

Technical Information: Libby Jewett, Program Manager, 301-713-3338/ext 121, Internet: libby.jewett@noaa.gov.

Business Management Information: Laurie Golden, NCCOS/CSCOR Grants Administrator, 301-713-3338/ext 151, Internet: laurie.golden@noaa.gov.

Other Information

Administrative Procedure Act

Notice and comment are not required under the Administrative Procedure Act, (5 U.S.C. 553), or any other law, for notices relating to public property, loans, grants, benefits or contracts (5 U.S.C. 553(a)). Because notice and comment is not required, a Regulatory Flexibility Analysis is not required and has not been prepared for this notice, (5 U.S.C. 601 et seq).

Paperwork Reduction Act

Notwithstanding any other provision of law, no person is required to respond to, nor shall any person is subject to a penalty for failure to comply with a collection of information subject to the requirements of the Paperwork Reduction Act, unless that collection displays a currently valid Office of Management and Budget (OMB) Control Number. This notification involves collection-of-information requirements subject to the Paperwork Reduction Act. The use of Standard Forms 424, 424A, 424B, and SF-LLL has been approved by the OMB under control numbers 0348-0043, 0348-0044, 0348-0040 and 0348-0046, respectively.

Dated: September 2, 2008.
John Potts,
Chief Financial Officer, National Oceanic and Atmospheric Administration, National Ocean Service.

[FR Doc. E8-20926 Filed 9-8-08; 8:45 am]

BILLING CODE 3510-JS-S